DEPARTMENT OF ENERGY

Federal Energy Regulatory Commission

[Docket No. RP05-523-002]

Eastern Shore Natural Gas Company ; Notice of Proposed Changes in FERC Gas Tariff

August 25, 2005.

Take notice that on August 19, 2005, Eastern Shore Natural Gas Company (ESNG) tendered for filing the following revised tariff sheets as part of its FERC Gas Tariff, Second Revised Volume No. 1, with a proposed effective date of September 1, 2005.

Sub Original Sheet No. 100A

First Revised Sheet No. 141A

Seventh Revised Sheet No. 143

Sub First Revised Sheet No. 146

Sub First Revised Sheet No. 147

Sub 2nd Revised Sheet No. 155D

Second Revised Sheet No. 158

Sub 7th Revised Sheet No. 160A

Sub 2nd Revised Sheet No. 169B

Sub First Revised Sheet No. 193B

Sub First Revised Sheet No. 193C

Sub First Revised Sheet No. 193D

Sub First Revised Sheet No. 193E

Sub First Revised Sheet No. 193F

Sub Original Sheet No. 194A

Sub 7th Revised Sheet No. 210

Sub Original Sheet No. 210A

Sub 7th Revised Sheet No. 215

Sub First Revised Sheet No. 233

ESNG states that copies of the filing have been served upon its affected customers and interested State commissions.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-4765 Filed 8-30-05; 8:45 am]

BILLING CODE 6717-01-P